DEPARTMENT OF DEFENSE

Office of the Secretary

32 CFR Part 199

[Docket ID: DOD-2007-HA-0048]

TRICARE; Hospital Outpatient Prospective Payment System (OPPS): Statement Concerning Additional Public Comments Following Final Rule Issuance

AGENCY: Office of the Secretary, Department of Defense (DoD).

ACTION: Response to comments.

SUMMARY: This document is to inform the public of DoD's views regarding the additional public comments that were invited by the document published February 6, 2009 (74 FR 6228), on the final rule issued December 10, 2008 (73 FR 74945). DoD is making no changes to the final rule as implementation of the Temporary Military Contingency Payment Adjustment (TMCPA) included in the final rule will accommodate the major concerns expressed in the additional public comments.

DATES: Effective Date: The effective date of the final rule issued December 10, 2008, is unchanged; it continues to be May 1, 2009.

FOR FURTHER INFORMATION CONTACT: David Bennett or Martha M. Maxey, TRICARE Management Activity (TMA), Medical Benefits and Reimbursement Branch; telephone: (303) 676-3494 or (303) 676-3627.

SUPPLEMENTARY INFORMATION:

DoD received approximately 300 public comments during the additional comment period, mostly following a similar pattern from or on behalf of hospitals. In the additional public comments received, there were three predominant themes: (1) That for some hospitals, particularly some close to military installations, TRICARE OPPS would have a significant financial impact; (2) DoD should follow the Medicare precedent in making first-year OPPS implementation cost neutral; and (3) DoD should follow the TRICARE CHAMPUS Maximum Allowable Charge physician payment system reform precedent and limit reductions to no more than 15 percent per year during the transition period.

DoD is not making any changes to the final rule. Implementation of the TMCPAs under the final rule will accommodate the concerns expressed by hospitals. TMA has provided instructions to TRICARE Regional Offices on TMCPAs and included additional guidance in the TRICARE Reimbursement Manual, Chapter 13, Section 3, paragraph III.D.5.g. at http://manuals.tricare.osd.mil. A Transitional Adjustment Information Paper is also available on TMA's OPPS Web site at http://www.tricare.mil/opps/.

Dated: May 5, 2009.
Patricia L. Toppings,
OSD Federal Register Liaison Officer, Department of Defense.

[FR Doc. E9-10708 Filed 5-7-09; 8:45 am]

BILLING CODE 5001-06-P